DEPARTMENT OF HEALTH AND HUMAN SERVICES

Centers for Disease Control and Prevention

[30Day-08-07BB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Testing of Sexual Violence Definitions and Recommended Data Elements in Three Different Racial/Ethnic Minority Communities—New—National Center for Injury Prevention and Control (NCIPC), Centers for Disease Control and Prevention (CDC).

Background and Brief Description

This study examines the definitions of sexual violence in three racial/ethnic minority communities: African-American, American Indian, and Hispanic. The purpose of this project is to develop an understanding of sexual violence in these communities. The developed survey will include the following: projecting estimates of sexual violence; describing the type of sexual violence; and developing a strategy that will increase awareness of sexual violence in minority communities. In addition, this project will establish the groundwork for similar future research.

This research builds on findings from the National Violence against Women Survey, (NCJ 183781, November 2000), a joint research effort funded by the (CDC) and National Institute of Justice (NIJ) that explored the occurrence of violence against women through a survey administered to a national sample of adult females and males. The proposed study will expand on this work by clarifying definitions, expanding the categories of sexual violence, and examining the sexual violence event.

This study will focus on women and will occur in two phases: cognitive and in-person interviews. In each of the three communities, in-depth cognitive interviews will be conducted with 12 adult women, for a total of 36 cognitive interviews. However, a total of 66 individuals will be screened. Respondents will be identified through agencies working with victims of sexual violence. Participants will be interviewed (in either English or Spanish) at the referral agency. The primary purpose of this interview is to assess the questions for the next phase of the study.

In the next phase, researchers will conduct face-to-face interviews with approximately 200 women in each of the three minority communities. However, a total of 1,315 individuals will be screened. Female respondents who are 18 years old will be selected randomly from the communities. Letters will be mailed to each household in the sample. These households will be contacted at a later date in order to collect eligibility information and to randomly select an individual. Participants will complete a 45 minute interview.

There are no costs to respondents except for their time to participate in the interview. The total estimated annualized burden hours are 646.

Estimated Annualized Burden
Respondents | Number of respondents | Number of responses per respondent | Average burden per response (in hours)
Phase One:
Screening for Cognitive Interview | 66 | 1 | 3/60
Phase One:
Cognitive Interview | 36 | 1 | 2
Phase Two:
Screening for Main Survey | 1,315 | 1 | 5/60
Phase Two:
Main Survey | 614 | 1 | 45/60

Dated: April 23, 2008.
Maryam I. Daneshvar,
Acting Reports Clearance Officer, Centers for Disease Control and Prevention.

[FR Doc. E8-9462 Filed 4-29-08; 8:45 am]

BILLING CODE 4163-18-P